OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between November 1, 2006, and November 30, 2006. Future notices will be published on the fourth Tuesday of each month, or as soon as possible thereafter. A consolidated listing of all authorities as of June 30 is published each year.

Schedule A

No Schedule A appointments were approved for November 2006.

Schedule B

No Schedule B appointments were approved for November 2006.

Section 213.3303 Executive Office of the President

Office of Management and Budget

BOGS70007 Press Assistant to the Associate Director for Communications. Effective November 02, 2006.

BOGS70002 Press Secretary to the Associate Director for Communications. Effective November 28, 2006.

Office of National Drug Control Policy

QQGS60100 Confidential Assistant to the Deputy Chief of Staff. Effective November 01, 2006.

Office of the United States Trade Representative

TNGS70002 Special Assistant to Deputy United States Representative. Effective November 01, 2006.

Presidents Commission on White House Fellowships

WHGS00019 Associate Director to the Director, President's Commission on White House Fellowships. Effective November 06, 2006.

Section 213.333 Office of Science and Technology Policy

TSGS60040 Policy Assistant to the Chief of Staff and General Counsel. Effective November 15, 2006.

TSGS60044 Assistant to the Director for Communications and Public Affairs to the Chief of Staff and General Counsel. Effective November 30, 2006.

Section 213.334 Department of State

DSGS61190 Staff Assistant to the Under Secretary for International Security Affairs. Effective November 02, 2006.

DSGS61193 Legislative Management Officer to the Assistant Secretary for Legislative and Intergovernmental Affairs. Effective November 08, 2006.

DSGS61195 Writer-Editor to the Assistant Secretary Bureau of Political-Military Affairs. Effective November 15, 2006.

DSGS61197 Assistant Chief of Protocol to the Chief of Protocol. Effective November 17, 2006.

DSGS61198 Director of Communications to the HIV/AIDS Coordinator. Effective November 17, 2006.

DSGS61196 Special Assistant to the Under Secretary for Arms Control and Security Affairs. Effective November 20, 2006.

DSGS61194 Director to the Assistant Secretary for Democracy Human Rights and Labor. Effective November 28, 2006.

DSGS61199 Legislative Management Officer to the Assistant Secretary for Legislative and Intergovernmental Affairs. Effective November 28, 2006.

Section 213.336 Department of Defense

DDGS16991 Confidential Assistant to the Under Secretary of Defense (Comptroller). Effective November 01, 2006

DDGS16997 Special Assistant to the Assistant Secretary of Defense (International Security Affairs). Effective November 06, 2006.

Section 213.3310 Department of Justice

DJGS00064 Principal Deputy Director to the Associate Attorney General. Effective November 20, 2006.

DJGS00110 Senior Counsel to the Director, Office of Public Affairs. Effective November 20, 2006.

DJGS00212 Special Assistant to the Principal Deputy Director, Office of Violence Against Women. Effective November 20, 2006.

DJGS00241 Senior Press Assistant to the Director, Office of Public Affairs. Effective November 20, 2006.

Section 213.3311 Department of Homeland Security

DMGS00587 Deputy Director of Scheduling and Advance to the Director of Scheduling and Advance. Effective November 15, 2006.

DMGS00590 Speechwriter to the Secretary and Senior Public Affairs Writer to the Assistant Secretary for Public Affairs. Effective November 15, 2006.

DMGS00591 Correspondence Analyst to the Executive Secretary. Effective November 15, 2006.

DMGS00593 Director of Scheduling and Advance to the Chief of Staff. Effective November 20, 2006.

DMGS00592 Special Assistant to the Assistant Secretary for Intelligence and Analysis to the Assistant Secretary for Information Analysis. Effective November 21, 2006.

DMGS00589 Senior Advisor to the Under Secretary for Science and Technology. Effective November 28, 2006.

DMGS00594 Confidential Assistant to the Executive Secretary. Effective November 28, 2006.

Section 213.3314 Department of Commerce

DCGS00541 Confidential Assistant to the Director, Advocacy Center. Effective November 15, 2006.

DCGS00570 Senior Policy Advisor to the Assistant to the Secretary and Director, Office of Policy and Strategic Planning. Effective November 22, 2006.

Section 213.3315 Department of Labor

DLGS60224 Special Assistant to the Deputy Assistant Secretary for Mine Safety and Health. Effective November 09, 2006.

DLGS60204 Special Assistant to the Assistant Secretary for Veterans Employment and Training. Effective November 28, 2006.

Section 213.3316 Department of Health and Human Services

DHGS60180 Special Assistant to the Principal Deputy Assistant Secretary for Planning and Evaluation. Effective November 02, 2006.

DHGS60412 Regional Director, San Francisco, California, Region IX. Effective November 08, 2006.

DHGS60256 Confidential Assistant to the Director of Intergovernmental Affairs. Effective November 21, 2006.

Section 213.3317 Department of Education

DBGS00567 Chief of Staff to the Assistant Secretary, Office of Communications and Outreach. Effective November 06, 2006.

Section 213.3318 Environmental Protection Agency

EPGS06031 Advance Specialist to the Director of Advance. Effective November 20, 2006.

EPGS06030 Program Specialist to the Associate Administrator for Policy, Economics and Innovation. Effective November 28, 2006.

Section 213.3325 United States Tax Court

JCGS60073 Trial Clerk to the Chief Judge. Effective November 03, 2006.

Section 213.3327 Department of Veterans Affairs

DVGS60039 Special Assistant to the Assistant Secretary for Information and Technology. Effective November 28, 2006.

DVGS60050 Special Assistant to the Assistant Secretary for Public and Intergovernmental Affairs. Effective November 28, 2006.

Section 213.3331 Department of Energy

DEGS00543 Communications Assistant to the Under Secretary for Science. Effective November 08, 2006.

Section 213.3391 Office of Personnel Management

PMGS60028 Scheduler and Special Assistant to the Chief of Staff and Director of External Affairs. Effective November 30, 2006.

Section 213.3394 Department of Transportation

DTGS60375 White House Liaison to the Chief of Staff. Effective November 20, 2006.

Office of Personnel Management.
Dan G. Blair,
Deputy Director.

[FR Doc. E6-21986 Filed 12-21-06; 8:45 am]

BILLING CODE 6325-39-P